DEPARTMENT OF THE INTERIOR

National Park Service

[NPS-WASO-NAGPRA-NPS0036500; PPWOCRADN0-PCU00RP14.R50000]

Notice of Intent To Repatriate Cultural Items: San Francisco State University NAGPRA Program, San Francisco, CA

AGENCY: National Park Service, Interior.

ACTION: Notice.

SUMMARY: In accordance with the Native American Graves Protection and Repatriation Act (NAGPRA), the San Francisco State University NAGPRA Program intends to repatriate certain cultural items that meet the definition of objects of cultural patrimony and that have a cultural affiliation with the Indian Tribes or Native Hawaiian organizations in this notice. The cultural items were removed from Placer County, CA.

DATES: Repatriation of the cultural items in this notice may occur on or after October 2, 2023.

ADDRESSES: Zay D. Latt, San Francisco State NAGPRA Program, 1600 Holloway Avenue, San Francisco, CA 94132, telephone (415) 405-3545, email zlatt@sfsu.edu.

SUPPLEMENTARY INFORMATION: This notice is published as part of the National Park Service's administrative responsibilities under NAGPRA. The determinations in this notice are the sole responsibility of the San Francisco State NAGPRA Program. The National Park Service is not responsible for the determinations in this notice. Additional information on the determinations in this notice, including the results of consultation, can be found in the summary or related records held by the San Francisco State NAGPRA Program.

Description

In 1964, cultural items were excavated and removed from sites PLA-1, PLA-14, PLA-25, PLA-H-7, PLA-H-11, PLA-H-12, PLA-19, and PLA-UNK in Placer County, CA. Upon the closure of the Tregenza Anthropology Museum in 2012, the cultural items were transferred to the San Francisco State University NAGPRA program. The objects of cultural patrimony are 15 lots consisting of modified stone, modified metal, and other objects.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: oral traditional, anthropological, archeological, geographical, historical, linguistic, other relevant information, and expert opinion.

Determinations

Pursuant to NAGPRA and its implementing regulations, and after consultation with the appropriate Indian Tribes and Native Hawaiian organizations, the San Francisco State NAGPRA Program has determined that:

• The 15 cultural items described above have ongoing historical, traditional, or cultural importance central to the Native American group or culture itself, rather than property owned by an individual.

• There is a relationship of shared group identity that can be reasonably traced between the cultural items and the United Auburn Indian Community of the Auburn Rancheria of California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 2, 2023. If competing requests for repatriation are received, the San Francisco State NAGPRA Program must determine the most appropriate requestor prior to repatriation. Requests for joint repatriation of cultural items are considered a single request and not competing requests. The San Francisco State NAGPRA Program is responsible for sending a copy of this notice to the Indian Tribe identified in this notice.

Authority: Native American Graves Protection and Repatriation Act, 25 U.S.C. 3003, and the implementing regulations, 43 CFR 10.8, 10.10, and 10.14.

Dated: August 23, 2023.
Melanie O'Brien,
Manager, National NAGPRA Program.

[FR Doc. 2023-18825 Filed 8-30-23; 8:45 am]

BILLING CODE 4312-52-P